FEDERAL MARITIME COMMISSION

Meetings; Sunshine Act

Agency Holding the Meeting: Federal Maritime Commission.

Federal Register Citation of Previous Announcement: 73 FR 38214.

Previously Announced Time and Date of the Meeting: 10 a.m.-July 9, 2008.

Changes: The addition of Item 2 in the Open Session of the Meeting.

Item 2—Application of Japan Grace Co., Inc. for a Certificate (Performance) Using an Escrow Agreement as Evidence of Section 3, Public Law 89-777 Financial Responsibility.

Contact Person for More Information: Karen V. Gregory, Assistant Secretary, (202) 523-5725.

Karen V. Gregory,
Assistant Secretary.

[FR Doc. E8-16138 Filed 7-14-08; 8:45 am]

BILLING CODE 6730-01-P